DEPARTMENT OF JUSTICE

Supplemental Notice of Lodging of Consent Decree Under the Comprehensive Environmental Response, Compensation, and Liability Act (CERCLA)

On January 15, 2009, the Department of Justice published notice of lodging of a proposed Consent Decree on January 9, 2009, with the United States District Court for the District of Kansas in United States v. Citibank Global Market Holdings, Inc., Civil Action No. 09-CV-4002-SAC, under the Comprehensive Environmental Response, Compensation, and Liability Act (“CERCLA”), 42 U.S.C. 9601-9675. See 74 FR 2617 (Jan. 15, 2009).

The Department of Justice hereby supplements its Notice to indicate that Citibank Global Market Holdings, Inc., is now known as Citigroup Global Market Holdings, Inc. Accordingly, the settlement parties are the United States, Citigroup Global Market Holdings, Inc., and the U.S. Steel Corporation. This opportunity to comment on the proposed consent decree is extended for 30 days from the date of publication of this Supplemental Notice.

Robert E. Maher, Jr.,
Assistant Section Chief, Environmental Enforcement Section, Environment and Natural Resources Division.

[FR Doc. E9-2272 Filed 2-3-09; 8:45 am]

BILLING CODE 4410-15-P